DEPARTMENT OF TRANSPORTATION

Coast Guard

33 CFR Part 117

[CGD08-03-001]

RIN 2115-AE47

Drawbridge Operating Regulations; Bayou Lafourche, Cutoff, LA

AGENCY: Coast Guard, DOT.

ACTION: Notice of temporary deviation from regulations.

SUMMARY: The Commander, Eighth Coast Guard District has issued a temporary deviation from the regulation governing the operation of the SR 1 (Galliano Lift) bridge across Bayou Lafourche, mile 30.6, near Cutoff, Lafourche Parish, Louisiana. This deviation allows the bridge to remain closed to navigation for two four-hour periods daily from February 3, through February 12, 2003. The deviation is necessary to allow for the replacement of the grid decking on the bridge.

DATES: This deviation is effective from 7 a.m. on Monday, February 3, 2003 until 4 p.m. on Wednesday, February 12, 2003.

ADDRESSES: Materials referred to in this document are available for inspection or copying at the office of the Eighth Coast Guard District, Bridge Administration Branch, Hale Boggs Federal Building, room 1313, 501 Magazine Street, New Orleans, Louisiana 70130-3396 between 7 a.m. and 3 p.m., Monday through Friday, except Federal holidays. The telephone number is 504-589-2965. The Bridge Administration Branch, Eighth District, maintains the public docket for this temporary deviation.

FOR FURTHER INFORMATION CONTACT: David Frank, Bridge Administration Branch, telephone (504) 589-2965.

SUPPLEMENTARY INFORMATION: The Louisiana Department of Transportation and Development has requested a temporary deviation in order to replace the grid decking of the bridge. These repairs are necessary for the continued operation of the bridge. This deviation allows the draw of the SR 1 bridge to remain closed to navigation from 7 a.m. until 11 a.m. and from noon until 4 p.m. daily from Monday, February 3, 2003 through Wednesday, February 12, 2003.

The vertical lift bridge has a vertical clearance of 3 feet above high water in the closed-to-navigation position. The bridge normally opens to pass navigation an average of 472 times a month. In accordance with 33 CFR 117.465(a), the draw of the bridge opens on signal; except that, from 2:30 p.m. to 3:30 p.m. and from 4:30 p.m. to 5:30 p.m., Monday through Friday, except Federal holidays, the draw need not open for the passage of vessels. The bridge will not be able to open for emergencies during the closure period as the weight disparity during the repairs will not allow for the safe operation of the bridge. Navigation on the waterway consists mainly of fishing vessels and some tugs with tows. An alternate route is available to these vessels by entering Bayou Lafourche from the Gulf Intracoastal Waterway.

In accordance with 33 CFR 117.35(c), this work will be performed with all due speed in order to return the bridge to normal operation as soon as possible. This deviation from the operating regulations is authorized under 33 CFR 117.35.

Dated: January 9, 2003.
Marcus Redford,
Bridge Administrator.

[FR Doc. 03-1287 Filed 1-21-03; 8:45 am]

BILLING CODE 4910-15-P